DEPARTMENT OF COMMERCE

National Oceanic and Atmospheric Administration

[RTID 0648-XW033]

General Advisory Committee to the U.S. Section to the Inter-American Tropical Tuna Commission and Scientific Advisory Subcommittee to the General Advisory Committee; Meeting Announcements

AGENCY: National Marine Fisheries Service (NMFS), National Oceanic and Atmospheric Administration (NOAA), Commerce.

ACTION: Notice of public meeting; consolidation of two meetings.

SUMMARY: NMFS announces a consolidation of the public meeting of the Scientific Advisory Subcommittee (SAS) to the General Advisory Committee (GAC) scheduled on June 17, 2020, with the public meeting of the GAC to the U.S. Section to the Inter-American Tropical Tuna Commission (IATTC) scheduled on June 18, 2020. This newly consolidated SAS and GAC meeting will be held on June 18, 2020, via webinar. The meeting topics are described under the SUPPLEMENTARY INFORMATION section of this notice.

DATES: The consolidated meeting of the SAS and GAC will be held on June 18, 2020, from 8:30 a.m. to 3:30 p.m. PDT (or until business is concluded).

ADDRESSES: Please notify William Stahnke (see FOR FURTHER INFORMATION CONTACT) if you plan to attend the webinar. Instructions will be emailed to meeting participants before the meeting occurs.

FOR FURTHER INFORMATION CONTACT: William Stahnke, West Coast Region, NMFS, at william.stahnke@noaa.gov, or at (562) 980-4088.

SUPPLEMENTARY INFORMATION: On March 5, 2020, NMFS announced that it scheduled a public meeting of the SAS to the GAC on June 17, 2020, and a public meeting of the GAC to the U.S. Section to the IATTC on June 18, 2020 (85 FR 12907). On May 19, 2020, NMFS announced a revision to the format of the public meetings of the SAS and the GAC, which would be held solely by webinar instead of in-person; additionally NMFS announced that the U.S. Stakeholder conference call to discuss IATTC tropical tuna management in the eastern Pacific Ocean scheduled for May 22, 2020, was cancelled, and the content of that call would be included in the SAS and GAC webinars (85 FR 29931). However, due to the unexpected and recent postponement of the IATTC Scientific Advisory Committee (SAC) Virtual Discussion scheduled for June 16, 2020, and the resulting delay of the release of information and recommendations, there will be limited information available to hold a standalone SAS meeting. Therefore, NMFS is consolidating the SAS and GAC meetings into one webinar on June 18, 2020. This consolidated meeting also includes the content of the cancelled U.S. Stakeholder conference call to discuss tropical tuna management in the eastern Pacific Ocean.

In accordance with the Tuna Conventions Act (16 U.S.C. 951 et seq.), the U.S. Department of Commerce, in consultation with the Department of State (the State Department), appoints a GAC to the U.S. Section to the IATTC, and a SAS that advises the GAC. The U.S. Section consists of the four U.S. Commissioners to the IATTC and representatives of the State Department, NOAA, Department of Commerce, other U.S. Government agencies, and stakeholders. The GAC advises the U.S. Section with respect to U.S. participation in the work of the IATTC, focusing on the development of U.S. policies, positions, and negotiating tactics. The purpose of the SAS is to advise the GAC on scientific matters. NMFS West Coast Region staff provide administrative support for the GAC and SAS. The meetings of the GAC and SAS are open to the public, unless in executive session. The time and manner of public comment will be at the discretion of the Chairs for the GAC and SAS.

Currently, the 95th meeting of the IATTC, the 41st Meeting of the Parties to the Agreement on the International Dolphin Conservation Program (AIDCP), and IATTC and AIDCP working group meetings are scheduled to be held, in whatever format, from October 26 to November 6, 2020. However, these dates are subject to change. For more information and updates on these meetings, please visit the IATTC's website: https://www.iattc.org/MeetingsENG.htm.

SAS and GAC Meeting Topics

In a memorandum from the IATTC Director to the IATTC Commissioners and Heads of Delegation on June 9, 2020 (Ref. No. 0287-410), the IATTC Director announced that the pre-recorded SAC presentations and the live SAC virtual discussion that were scheduled to occur on June 12 and June 16, 2020, respectively, would be postponed until after the dates scheduled for the meetings of the SAS and GAC. As such, the consolidated SAS and GAC meeting will have a streamlined agenda.

The meeting agenda will include, but is not limited to, the following topics:

(1) Overview of the 2020 IATTC Meetings;

(2) Outcomes of the 2020 stock assessments and stock status updates for tuna, tuna-like species, and other species caught in association with those fisheries in the eastern Pacific Ocean;

(3) Evaluation of the IATTC Staff's Recommendations to the Commission for 2020;

(4) Issues related to non-target species, such as sharks, seabirds, sea turtles;

(5) Evaluation of U.S. priorities for the 95th meeting of the IATTC and priorities from other IATTC members;

(6) Recommendations and evaluations by the SAS and GAC; and

(7) Other issues as they arise.

Special Accommodations

Requests for sign language interpretation or other auxiliary aids should be directed to William Stahnke (see FOR FURTHER INFORMATION CONTACT).

Authority: 16 U.S.C. 951 et seq.

Dated: June 12, 2020.
Hélène M.N. Scalliet,
Acting Director, Office of Sustainable Fisheries, National Marine Fisheries Service.

[FR Doc. 2020-13073 Filed 6-12-20; 4:15 pm]

BILLING CODE 3510-22-P